DEPARTMENT OF HOMELAND SECURITY

Transportation Security Administration

Intent To Request Renewal From OMB of One Current Public Collection of Information: Pipeline Corporate Security Review Program

AGENCY: Transportation Security Administration, DHS.

ACTION: 60-day notice.

SUMMARY: The Transportation Security Administration (TSA) invites public comment on one currently-approved Information Collection Request (ICR), Office of Management and Budget (OMB) control number 1652-0056, abstracted below that we will submit to OMB for renewal in compliance with the Paperwork Reduction Act (PRA). The ICR describes the nature of the information collection and its expected burden. The collection allows TSA to assess the current security practices in the pipeline industry through TSA's Pipeline Corporate Security Review (PCSR) program. The PCSR program is part of the larger domain awareness, prevention, and protection program supporting TSA's and the Department of Homeland Security's missions.

DATES: Send your comments by July 1, 2016.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0056; Pipeline Corporate Security Review (PCSR) Program. Under the Aviation and Transportation Security Act (ATSA) ¹ and delegated authority from the Secretary of Homeland Security, TSA has broad responsibility and authority for “security in all modes of transportation . . . including security responsibilities . . . over modes of transportation that are exercised by the Department of Transportation.” ² TSA is specifically empowered to develop policies, strategies, and plans for dealing with threats to transportation,³ oversee the implementation and adequacy of security measures at transportation facilities,⁴ and carry out other appropriate duties relating to transportation security.⁵ TSA has developed the PCSR program to assess the current security practices in the pipeline industry.

¹ Public Law 107-71 (115 Stat. 597, Nov. 19, 2001), codified at 49 U.S.C. 114.

² See 49 U.S.C. 114(d). The TSA Administrator's current authorities under ATSA have been delegated to him by the Secretary of Homeland Security. Section 403(2) of the Homeland Security Act (HSA) of 2002, Public Law 107-296 (116 Stat. 2135, Nov. 25, 2002), transferred all functions of TSA, including those of the Secretary of Transportation and the Under Secretary of Transportation of Security related to TSA, to the Secretary of Homeland Security. Pursuant to DHS Delegation Number 7060.2, the Secretary delegated to the Administrator of TSA, subject to the Secretary's guidance and control, the authority vested in the Secretary with respect to TSA, including that in section 403(2) of the HSA.

³ 49 U.S.C. 114(f)(3).

⁴ 49 U.S.C. 114(f)(11).

⁵ 49 U.S.C. 114(f)(15).

The purpose of the PCSR program is to develop first-hand knowledge of a pipeline owner/operator's corporate security policies and procedures, establish and maintain working relationships with key pipeline security personnel, and identify and share smart security practices observed at individual facilities to help enhance and improve the security of the pipeline industry. To this end, the PCSR Program provides TSA with a method to discuss security-related matters with pipeline owners/operators.

Focusing on the security of pipelines and the crude oil and petroleum products, such as gasoline, diesel, jet fuel, home heating oil, and natural gas, moving through the system infrastructure, the PCSR program subject matter experts:

• Meet with senior corporate officers and security managers.

• Develop knowledge of security planning at critical pipeline infrastructure sites.

• Establish and maintain a working relationship with key security staff who operate critical pipeline infrastructure.

• Identify industry smart practices and lessons learned.

• Maintain a dynamic modal network through effective communications with the pipeline industry and government stakeholders.

In carrying out PCSRs, subject matter experts from TSA, using a risk-based approach, visit select pipeline owners/operators throughout the nation. These are voluntary face-to-face visits, usually at the headquarters facility of the pipeline owner/operator. Typically, TSA sends one to three employees to conduct a three- to four-hour interview with representatives from the owner/operator. The TSA representatives analyze the owner/operator's security plan and determine if the mitigation measures included in the plan are being properly implemented. TSA then may visit one or two of the owner/operator's assets to further assess the implementation of the owner/operator's security plan.

TSA has developed a question set to aid in the conducting of PCSRs. The PCSR Question Set drives the TSA-owner/operator discussion and is the central data source for all security information collected. The PCSR Question Set was developed based on government and industry guidance to obtain information from a pipeline owner/operator about its security plan and processes. The questions are designed to examine the company's current state of security, as well as to address measures that are applied if there is a change in the National Terrorism Advisory System.

In application, topics such as security program management, vulnerability assessments, components of the security plan, security training, and emergency communications enable the PCSR Teams to assess the owner/operator's security plan by evaluating a broad range of security issues such as physical security, cyber security, communication, and training. The PCSR Question Set also includes sections for facility site visits and owner/operator contact information. The questions and subsequent answers help provide TSA with a snapshot of a company's security posture and are instrumental in developing smart practices and security measures.

This PCSR information collection provides TSA with real-time information on current security practices within the pipeline mode of the surface transportation sector. This information allows TSA to adapt programs to the changing security threat, while incorporating an understanding of the improvements owners/operators make in their security measures. Without this information, the ability of TSA to perform its security mission would be severely hindered.

Additionally, the relationships these face-to-face contacts foster are critical to the Federal government's ability to reach out to the pipeline stakeholders affected by the PCSRs. TSA assures respondents that the portion of their responses that is deemed Sensitive Security Information (SSI) will be protected in accordance with procedures meeting the transmission, handling, and storage requirements of SSI set forth in 49 Code of Federal Regulations (CFR) parts 15 and 1520.

The annual hour burden for this information collection is estimated to be 120 hours based upon 15 PCSR visits per year, each lasting a total of eight hours.

Dated: April 26, 2016.
Christina A. Walsh,
TSA Paperwork Reduction Act Officer, Office of Information Technology.

[FR Doc. 2016-10211 Filed 4-29-16; 8:45 am]

BILLING CODE 9110-05-P